FEDERAL COMMUNICATIONS COMMISSION

Notice of Public Information Collection(s) Being Submitted for Review to the Office of Management and Budget

February 22, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 1, 2006. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control No.: 3060-0233.

Title: Part 36—Separations.

Form No.: N/A.

Type of Review: Extension of a currently approved collection.

Respondents: Business or other for-profit.

Number of Respondents: 2,067 respondents; 5,433 responses.

Estimated Time Per Response: 5-22 hours.

Frequency of Response: On occasion, annual and quarterly reporting requirements, and third party disclosure requirement.

Total Annual Burden: 58,418 hours.

Total Annual Cost: N/A.

Privacy Act Impact Assessment: No.

Needs and Uses: This collection will be submitted as an extension (after this 60-day comment period) to OMB in order to obtain the full three year clearance.

In order to allow determination of the study areas that are entitled to an expense adjustment, and the wire centers that are entitled to high-cost universal service support, incumbent and competitive telecommunications carriers must provide certain data to the National Exchange Carrier Association (NECA) or the Universal Service Administrative Company annually or quarterly. Local telecommunications carriers who want to participate in the federal universal service support program must make certain informational showings to demonstrate eligibility. The reporting requirements are necessary to implement the congressional mandate for universal service. The reporting requirements are necessary to verify that non-rural and rural local exchange carriers are eligible to receive universal service support. Information filed with NECA pursuant to section 36.611 is used to calculate universal service support payments to eligible carriers. Without this information, NECA would not be able to calculate such payments to eligible carriers.

OMB Control No.: 3060-0168.

Title: Section 43.43, Reports of Proposed Changes in Depreciation Rates.

Form No.: N/A.

Type of Review: Extension of a currently approved collection.

Respondents: Business or other for-profit.

Number of Respondents: 10.

Estimated Time Per Response: 6,000 hours.

Frequency of Response: On occasion reporting requirement, and recordkeeping requirement.

Total Annual Burden: 60,000 hours.

Total Annual Cost: N/A.

Privacy Act Impact Assessment: No.

Needs and Uses: This collection will be submitted as an extension (after this 60-day comment period) to OMB in order to obtain the full three year clearance.

Section 43.43 requires certain carriers to file specified information before making any change in the depreciation rates applicable to their operating plants. The information filed is used by the Commission to establish proper depreciation rates to be charged by the carriers, pursuant to section 220(b) of the Communications Act of 1934, as amended. The information serves as the basis for depreciation analyses made by the Wireline Competition Bureau in establishing the aforementioned rates. Without this information, the validity of the carriers' depreciation policies could not be ascertained.

Federal Communications Commission.
Marlene H. Dortch,
Secretary.

[FR Doc. E6-2881 Filed 2-28-06; 8:45 am]

BILLING CODE 6712-01-P